NUCLEAR REGULATORY COMMISSION

[Docket No. NRC-2014-0079]

Agency Information Collection Activities: Proposed Collection; Comment Request

AGENCY: Nuclear Regulatory Commission.

ACTION: Notice of pending NRC action to submit an information collection request to the Office of Management and Budget (OMB) and solicitation of public comment.

SUMMARY: The U.S. Nuclear Regulatory Commission (NRC) invites public comment about our intention to request the OMB's approval for renewal of an existing information collection that is summarized below. We are required to publish this notice in the Federal Register under the provisions of the Paperwork Reduction Act of 1995 (44 U.S.C. Chapter 35).

Information pertaining to the requirement to be submitted:

1. The title of the information collection: NRC Form 450, “General Assignment.”

2. Current OMB approval number: 3150-0114.

3. How often the collection is required: Once during the contract closeout process.

4. Who is required or asked to report: Contractors.

5. The number of annual respondents: 15.

6. The number of hours needed annually to complete the requirement or request: 30.

7. Abstract: During the contract closeout process for cost-reimbursement and time-and-materials type contracts, the NRC requires the contractor to execute NRC Form 450, General Assignment. Execution of this form grants to the government all rights, title, and interest to refunds arising out of the contractor performance.

Submit, by July 21, 2014, comments that address the followings questions:

1. Is the proposed collection of information necessary for the NRC to properly perform its functions? Does the information have practical utility?

2. Is the burden estimate accurate?

3. Is there a way to enhance the quality, utility, and clarity of the information to be collected?

4. How can the burden of the information collection be minimized, including the use of automated collection techniques or other forms of information technology?

The public may examine and have copied for a fee publicly-available documents, including the final supporting statement, at the NRC's Public Document Room, Room O-1F21, One White Flint North, 11555 Rockville Pike, Rockville, Maryland 20852. The OMB clearance requests are available at the NRC's Web site: http://www.nrc.gov/public-involve/doc-comment/omb/. The document will be available on the NRC's home page site for 60 days after the signature date of this notice.

Comments submitted in writing or in electronic form will be made available for public inspection. Since your comments will not be edited to remove any identifying or contact information, the NRC cautions you against including any information in your submission that you do not want to be publicly disclosed. Comments submitted should reference Docket No. NRC-2014-0079. You may submit your comments by any of the following methods: Electronic comments go to http://www.regualtions.gov and search for Docket No. NRC-2014-0079. Mail comments to the Acting NRC Clearance Officer, Fajr Majeed (T-5 F50), U.S. Nuclear Regulatory Commission, Washington, DC 20555-0001.

Questions about the information collection requirements may be directed to the Acting NRC Clearance Officer, Fajr Majeed (T-5 F50), U.S. Nuclear Regulatory Commission Washington, DC 20555-0001; telephone: 301-415-6736, or by email to INFOCOLLECTS.Resource@NRC.GOV.

Dated at Rockville, Maryland, this 15th day of May, 2014.
For the Nuclear Regulatory Commission.
Fajr Majeed,
Acting NRC Clearance Officer, Office of Information Services.

[FR Doc. 2014-11611 Filed 5-19-14; 8:45 am]

BILLING CODE 7590-01-P